DEPARTMENT OF COMMERCE

National Institute of Standards and Technology

National Fire Protection Association (NFPA): Proposes To Revise Codes and Standards

AGENCY: National Institute of Standards and Technology, Commerce.

ACTION: Notice.

SUMMARY: The National Fire Protection Association (NFPA) proposes to revise some of its safety codes and standards and requests proposals from the public to amend existing or begin the process of developing new NFPA safety codes and standards. The purpose of this request is to increase public participation in the system used by NFPA to develop its codes and standards. The publication of this notice of request for proposals by the National Institute of Standards and Technology (NIST) on behalf of NFPA is being undertaken as a public service; NIST does not necessarily endorse, approve, or recommend any of the standards referenced in the notice.

The NFPA process provides ample opportunity for public participation in the development of its codes and standards. All NFPA codes and standards are revised and updated every three to five years in Revision Cycles that begin twice each year and that takes approximately two years to complete. Each Revision Cycle proceeds according to a published schedule that includes final dates for all major events in the process. The process contains five basic steps that are followed both for developing new documents as well as revising existing documents. These steps are: Calling for Proposals; Publishing the Proposals in the Report on Proposals; Calling for Comments on the Committee's disposition of the proposals and these Comments are published in the Report on Comments; having a Technical Report Session at the NFPA Annual Meeting; and finally, the Standards Council Consideration and Issuance of documents.

Note: Under new rules effective Fall 2005, anyone wishing to make Amending Motions on the Technical Committee Reports (ROP and ROC) must signal their intention by submitting a Notice of Intent to Make a Motion by the Deadline stated in the ROC. Certified motions will then be posted on the NFPA Web site. Documents that receive notice of proper Amending Motions (Certified Amending Motions) will be presented for action at the annual June Association Technical Meeting. Documents that receive no motions will be forwarded directly to the Standards Council for action on issuance.

For more information on these new rules and for up-to-date information on schedules and deadlines for processing NFPA Documents, check the NFPA Web site at http://www.nfpa.org or contact NFPA Codes and Standards Administration.

DATES: Interested persons may submit proposals on or before the dates listed with the standards.

ADDRESSES: Christian Dubay, Secretary, Standards Council, NFPA, 1 Batterymarch Park, Quincy, Massachusetts 02269-7471.

FOR FURTHER INFORMATION CONTACT: Christian Dubay, Secretary, Standards Council, at above address, (617) 770-3000.

SUPPLEMENTARY INFORMATION:

Background

The National Fire Protection Association (NFPA) develops building, fire, and electrical safety codes and standards. Federal agencies frequently use these codes and standards as the basis for developing Federal regulations concerning safety. Often, the Office of the Federal Register approves the incorporation by reference of these standards under 5 U.S.C. 552(a) and 1 CFR Part 51.

When a Technical Committee begins the development of a new or revised NFPA code or standard, it enters one of two Revision Cycles available each year. The Revision Cycle begins with the Call for Proposals, that is, a public notice asking for any interested persons to submit specific written proposals for developing or revising the Document. The Call for Proposals is published in a variety of publications. Interested parties have approximately twenty weeks to respond to the Call for Proposals.

Following the Call for Proposals period, the Technical Committee holds a meeting to consider and accept, reject or revise, in whole or in part, all the submitted Proposals. The committee may also develop its own Proposals. A document known as the Report on Proposals, or ROP, is prepared containing all the Public Proposals, the Technical Committee's action and each Proposal, as well as all Committee-generated Proposals. The ROP is then submitted for the approval of the Technical Committee by a formal written ballot. If the ROP does not receive approval by a two-thirds vote calculated in accordance with NFPA rules, the Report is returned to the committee for further consideration and is not published. If the necessary approval is received, the ROP is published in a compilation of Reports on Proposals issued by NFPA twice yearly for public review and comment, and the process continues to the next step.

The Reports on Proposals are sent automatically free of charge to all who submitted proposals and each respective committee member, as well as anyone else who requests a copy. All ROPs are also available for free downloading at http://www.nfpa.org.

Once the ROP becomes available, there is a 60-day comment period during which anyone may submit a Public Comment on the proposed changes in the ROP. The committee then reconvenes at the end of the comment period and acts on all Comments.

As before, a two-thirds approval vote by written ballot of the eligible members of the committee is required for approval of actions on the Comments. All of this information is compiled into a second Report, called the Report on Comments (ROC), which, like the ROP, is published and made available for public review for a seven-week period.

The process of public input and review does not end with the publication of the ROP and ROC. Following the completion of the Proposal and Comment periods, there is yet a further opportunity for debate and discussion through the Technical Report Sessions that take place at the NFPA Annual Meeting.

The Technical Report Session provides an opportunity for the final Technical Committee Report (i.e., the ROP and ROC) on each proposed new or revised code or standard to be presented to the NFPA membership for the debate and consideration of motions to amend the Report. Before making an allowable motion at a Technical Report Session, the intended maker of the motion must file, in advance of the session, and within the published deadline, a Notice of Intent to Make a Motion. A Motions Committee appointed by the Standards Council then reviews all notices and certifies all amending motions that are proper. Only these Certified Amending Motions, together with certain allowable Follow-Up Motions (that is, motions that have become necessary as a result of previous successful amending motions) will be allowed at the Technical Report Session.

For more information on dates/locations of NFPA Technical Committee meetings and NFPA Annual Technical Report Sessions, check the NFPA Web site at: http://www.nfpa.org/itemDetail.asp?categoryID=822&itemID=22818.

The specific rules for the types of motions that can be made and who can make them are set forth in NFPA's Regulation Governing Committee Projects which should always be consulted by those wishing to bring an issue before the membership at a Technical Report Session.

Interested persons may submit proposals, supported by written data, views, or arguments to Christian Dubay, Secretary, Standards Council, NFPA, 1 Batterymarch Park, Quincy, Massachusetts 02269-7471. Proposals should be submitted on forms available from the NFPA Codes and Standards Administration Office or on NFPA's Web site at http://www.nfpa.org.

Each person must include his or her name and address, identify the document and give reasons for the proposal. Proposals received before or by 5 p.m. local time on the closing date indicated would be acted on by the Committee. The NFPA will consider any proposal that it receives on or before the date listed with the codes or standard.

Document—Edition | Document title | Proposal closing date
NFPA 2—P* | Hydrogen Technologies Code | 1/2/2009
NFPA 12—2008 | Standard on Carbon Dioxide Extinguishing Systems | 5/29/2009
NFPA 17—2009 | Standard for Dry Chemical Extinguishing Systems | 5/23/2011
NFPA 17A—2009 | Standard for Wet Chemical Extinguishing Systems | 5/23/2011
NFPA 18A—2007 | Standard on Water Additives for Fire Control and Vapor Mitigation | 12/1/2008
NFPA 25—2008 | Standard for the Inspection, Testing, and Maintenance of Water-Based Fire Protection Systems | 12/1/2008
NFPA 30—2008 | Flammable and Combustible Liquids Code | 12/1/2008
NFPA 30B—2007 | Code for the Manufacture and Storage of Aerosol Products | 12/1/2008
NFPA 40—2007 | Standard for the Storage and Handling of Cellulose Nitrate Film | 12/1/2008
NFPA 58—2008 | Liquefied Petroleum Gas Code | 12/1/2008
NFPA 59—2008 | Utility LP-Gas Plant Code | 11/24/2009
NFPA 70—2008 | National Electrical Code® | 11/7/2008
NFPA 73—2006 | Electrical Inspection Code for Existing Dwellings | 12/1/2008
NFPA 85—2007 | Boiler and Combustion Systems Hazards Code | 5/8/2009
NFPA 86—2007 | Standard for Ovens and Furnaces | 12/1/2008
NFPA 87—P* | Recommended Practice for Fluid Heaters | 1/2/2009
NFPA 88A—2007 | Standard for Parking Structures | 12/1/2008
NFPA 96—2008 | Standard for Ventilation Control and Fire Protection of Commercial Cooking Operations | 12/1/2008
NFPA 160—2006 | Standard for the Use of Flame Effects Before an Audience | 12/1/2008
NFPA 251—2006 | Standard Methods of Tests of Fire Resistance of Building Construction and Materials | 5/29/2009
NFPA 253—2006 | Standard Method of Test for Critical Radiant Flux of Floor Covering Systems Using a Radiant Heat Energy Source | 5/29/2009
NFPA 262—2007 | Standard Method of Test for Flame Travel and Smoke of Wires and Cables for Use in Air-Handling Spaces | 5/29/2009
NFPA 265—2007 | Standard Methods of Fire Tests for Evaluating Room Fire Growth Contribution of Textile Coverings on Full Height Panels and Walls | 5/29/2009
NFPA 285—2006 | Standard Fire Test Method for Evaluation of Fire Propagation Characteristics of Exterior Non-Load-Bearing Wall Assemblies Containing Combustible Components | 5/29/2009
NFPA 286—2006 | Standard Methods of Fire Tests for Evaluating Contribution of Wall and Ceiling Interior Finish to Room Fire Growth | 5/29/2009
NFPA 303—2006 | Fire Protection Standard for Marinas and Boatyards | 12/1/2008
NFPA 307—2006 | Standard for the Construction and Fire Protection of Marine Terminals, Piers, and Wharves | 12/1/2008
NFPA 312—2006 | Standard for Fire Protection of Vessels During Construction, Conversion, Repair, and Lay-Up | 12/1/2008
NFPA 385—2007 | Standard for Tank Vehicles for Flammable and Combustible Liquids | 5/28/2010
NFPA 502—2008 | Standard for Road Tunnels, Bridges, and Other Limited Access Highways | 12/1/2008
NFPA 556—P* | Guide on Methods for Evaluating Fire Hazard to Occupants of Passenger Road Vehicles | 12/1/2008
NFPA 654—2006 | Standard for the Prevention of Fire and Dust Explosions from the Manufacturing, Processing, and Handling of Combustible Particulate Solids | 12/1/2008
NFPA 780—2008 | Standard for the Installation of Lightning Protection Systems | 12/1/2008
NFPA 1000—2006 | Standard for Fire Service Professional Qualifications Accreditation and Certification Systems | 12/1/2008
NFPA 1071—2006 | Standard for Emergency Vehicle Technician Professional Qualifications | 11/1/2008
NFPA 1124—2006 | Code for the Manufacture, Transportation, Storage, and Retail Sales of Fireworks and Pyrotechnic Articles | 12/1/2008
NFPA 1126—2006 | Standard for the Use of Pyrotechnics Before a Proximate Audience | 12/1/2008
NFPA 1145—2006 | Guide for the Use of Class A Foams in Manual Structural Fire Fighting | 12/1/2008
NFPA 1991—2005 | Standard on Vapor-Protective Ensembles for Hazardous Materials Emergencies | 12/1/2008
NFPA 1992—2005 | Standard on Liquid Splash-Protective Ensembles and Clothing for Hazardous Materials Emergencies | 12/1/2008
NFPA 1994—2007 | Standard on Protective Ensembles for First Responders to CBRN Terrorism Incidents | 12/1/2008
NFPA 2001—2008 | Standard on Clean Agent Fire Extinguishing Systems | 5/29/2009
*P = Proposed NEW drafts are available from NFPA's Web site— http://www.nfpa.org or may be obtained from NFPA's Codes and Standards Administration, 1 Batterymarch Park, Quincy, Massachusetts 02269-7471.

Dated: October 22, 2008.
Patrick Gallagher,
Deputy Director.

[FR Doc. E8-25698 Filed 10-27-08; 8:45 am]

BILLING CODE 3510-13-P